DEPARTMENT OF LABOR

Office of the Secretary

Submission for OMB Review: Comment Request

December 2, 2004.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Bureau of Labor Statistics (BLS), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Extension of a currently approved collection.

Title: Census of Fatal Occupational Injuries.

OMB Number: 1220-0133.

Form Number: BLS CFOI-1.

Frequency: On occasion.

Type of Response: Reporting.

Affected Public: State, Local, or Tribal Government; individuals or households; business or other for-profit; not-for-profit institutions; farms; and Federal Government.

Number of Respondents: 1,345.

Number of Annual Responses: 27,750.

Estimated Time Per Response: 10 minutes to compile source documents and 20 minutes to complete the Form BLS CFOI-1.

Total Burden Hours: 4,813.

Total Annualized Capital/Startup Costs: $0.

Total Annual Costs (Operating/Maintaining Systems or Purchasing Services): $0.

Description: The Census of Fatal Occupational Injuries provides policymakers and the public with comprehensive, verifiable, and timely measures of fatal work injuries. Data are compiled from various Federal, State, and local sources and include information on how the incident occurred as well as various characteristics of the employer and the deceased worker. The information is used for surveillance of fatal work injuries and for developing prevention strategies.

Agency: Bureau of Labor Statistics.

Type of Review: Reinstatement, without change, of a previously approved collection.

Title: Contingent Work Supplement to the CPS.

OMB Number: 1220-0153.

Form Number: None.

Frequency: One time.

Type of Response: Reporting.

Affected Public: Individuals or households.

Number of Respondents: 43,500.

Number of Annual Responses: 43,500.

Estimated Time Per Response: 8 minutes.

Total Burden Hours: 5,800.

Total Annualized Capital/Startup Costs: $0.

Total Annual Costs (Operating/Maintaining Systems or Purchasing Services): $0.

Description: Since the mid-1980s, there has been a growing belief among labor market researchers that employers require greater flexibility in their use of labor. As a result, many workers find themselves in “contingent jobs” that are structured to last for only limited duration or in alternative employment arrangements such as independent contracting, on-call work, working through a contract company, or through a temporary help firm. It is feared that workers with such employment may have little job security, low pay, and no employee benefits. This CPS supplement provides objective information about “contingent work.”

Ira L. Mills,
Departmental Clearance Officer.

[FR Doc. 04-27013 Filed 12-8-04; 8:45 am]

BILLING CODE 4510-24-P